DEPARTMENT OF TRANSPORTATION

National Highway Traffic Safety Administration

[Docket No. NHTSA-2010-0171; Notice 2]

Nissan North America, Inc., Grant of Petition for Decision of Inconsequential Noncompliance

AGENCY: National Highway Traffic Safety Administration, DOT.

ACTION: Grant of Petition.

SUMMARY: Nissan North America, Inc. (Nissan), has determined that certain model year 2008 through 2010 Nissan Titan trucks do not fully comply with the requirements of paragraph S19.2.2(b) of Federal Motor Vehicle Safety Standard (FMVSS) No. 208, Occupant Crash Protection. Nissan has filed an appropriate report pursuant to 49 CFR Part 573, Defect and Noncompliance Responsibility and Reports, dated August 18, 2010.

Pursuant to 49 U.S.C. 30118(d) and 30120(h) and the rule implementing those provision at 49 CFR Part 556, Nissan has petitioned for an exemption from the notification and remedy requirements of 49 U.S.C. Chapter 301 on the basis that this noncompliance is inconsequential to motor vehicle safety.

Notice of receipt of Nissan's petition was published, with a 30 day public comment period, on December 21, 2010, in the Federal Register (75 FR 80109). No comments were received. To view the petition and all supporting documents log onto the Federal Docket Management System (FDMS) Web site at: http://www.regulations.gov/. Then follow the online search instructions to locate docket number “NHTSA-2008-0210.”

Contact Information: For further information on this decision, contact Mr. Lawrence Valvo, Office of Vehicle Safety Compliance, the National Highway Traffic Safety Administration (NHTSA), telephone (202) 366-5359, facsimile (202) 366-7002.

Vehicles Involved: Affected are approximately 102,254 model year 2008 through 2010 Nissan Titan trucks that were manufactured from April 10, 2007, through August 6, 2010.

Summary of Nissan's Petition: Nissan states that the noncompliance is that the label identifying the amber air bag status telltale lamp for the front outboard passenger seating position is identified with the words “PASSENGER AIR BAG” instead of “PASSENGER AIR BAG OFF.”

Nissan believes the noncompliance is inconsequential to motor vehicle safety for the following reasons:

1. The passenger air bag system on the subject vehicles operates as designed and automatically deactivates the passenger air bag when it is appropriate in accordance with the requirements in S19.2 of FMV55 No. 208. That is, the system requires no input from the operator to perform its intended function. Further, the front passenger airbag status telltale operates correctly and illuminates when the passenger air bag is deactivated as required by the standard.

2. The meaning of the air bag status telltale alone (without the identifying words) is unequivocal to the vehicle occupants. The telltale remains off when the passenger air bag is in the normal mode. When the passenger air bag is deactivated, the telltale is illuminated, showing an icon representing an air bag with an X drawn over it. This clearly represents a deactivated air bag. Nissan notes that in certain other markets, the telltale alone is deemed sufficient with no identifying words required next to the telltale. The identifying words “passenger side air bag” (without the word “OFF”) do not confuse the otherwise clear and readily apparent meaning of the telltale.

3. Information provided in several locations in the vehicle owner's manual further reduces any possibility of operator confusion. If the meaning of telltale is unclear, the operator can refer to multiple explanations in the owner's manual.

4. Telltale Function is also described in Quick Reference Guide.

5. There have been no customer complaints, injuries, or accidents related to the word “OFF” missing from the label. Nissan has searched its databases and has found no cases of misunderstanding the telltale.

6. Nissan conducted an informal survey at Nissan's National Headquarters Building in Franklin, Tennessee. The building houses mostly business personnel (sales marketing, finance) and not design engineers that would have special understanding of the air bag systems. As employees were approaching the building to begin their workday, they were asked to participate in a survey regarding the Titan and that the survey would take about 30 seconds of their time. The participants represented a good cross-section of the general population by age, gender and race. The subject Titan pickup truck was equipped with the required yellow passenger side air bag status telltale that contained the “no air bag” symbol, but did not display the word “OFF”. The passenger air bag telltale was illuminated. Survey participants were asked to describe the meaning of the telltale. Sixty people participated in the survey. Of the sixty people, 58 responded correctly that the telltale indicated the passenger side airbag was in suppressed mode. The survey shows that people understand the meaning of the passenger air bag telltale even with the word “OFF” missing. We note also that adding the word “OFF” did not help the two respondents to understand the meaning of the telltale. They would have needed to consult the Owner's Manual. Nissan acknowledges that this was an ad hoc survey that may not meet rigid statistical standards, nevertheless, we believe it is predictive of the results that would be obtained from a larger, controlled survey.

7. A decision to grant this petition would be consistent with arguably similar prior requests related to labeling issues. For example, NHTSA has previously granted petitions related to certain tire and tire placard labeling errors.

Nissan also states that it has taken steps to correct the non-compliance in future production.

Supported by the above stated reasons, Nissan believes that the described FMVSS No. 208 noncompliance is inconsequential to motor vehicle safety, and that its petition, to exempt it from providing recall notification of noncompliance as required by 49 U.S.C. 30118 and remedying the recall noncompliance as required by 49 U.S.C. 30120, should be granted.

Discussion: Section S19.2.2 of FMVSS No. 208 specifically states:

S19.2.2 The vehicle shall be equipped with at least one telltale which emits light whenever the passenger air bag system is deactivated and does not emit light whenever the passenger air bag system is activated, except that the telltale(s) need not illuminate when the passenger seat is unoccupied. Each telltale: * * *

(b) Shall have the identifying words “PASSENGER AIR BAG OFF” or “PASS AIR BAG OFF” on the telltale or within 25 mm (1.0 in) of the telltale; and * * *

NHTSA Decision: NHTSA has reviewed and accepts Nissan's analyses that the noncompliance is inconsequential to motor vehicle safety. Nissan has provided sufficient documentation that the front passenger airbag suppression status telltale lamp does comply with all other safety performance requirements of the standard, except the labeling. If a vehicle owner needs an explanation of what the symbol means, they can reference the symbol in the Owners Manual or the Quick Reference Guide. In addition, NHTSA has reviewed all incoming complaints on the subject vehicles and found no complaints matching the subject noncompliance.

In consideration of the foregoing, NHTSA has determined that Nissan has met its burden of persuasion that the subject FMVSS No. 208 telltale noncompliance is inconsequential to motor vehicle safety. Accordingly, Nissan's petition is hereby granted, and Nissan is exempted from the obligation of providing notification of, and a remedy for, the subject noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to approximately 102,254 vehicles that Nissan no longer controlled at the time that it determined that a noncompliance existed in the subject vehicles. However, the granting of this petition does not relieve vehicle distributors and dealers of the prohibitions on the sale, offer for sale, or introduction or delivery for introduction into interstate commerce of the noncompliant vehicles under their control after Nissan notified them that the subject noncompliance existed.

Authority: (49 U.S.C. 30118, 30120: delegations of authority at CFR 1.95 and 501.8)

Issued on: May 7, 2013.
Claude H. Harris,
Director, Office of Vehicle Safety Compliance.

[FR Doc. 2013-11428 Filed 5-13-13; 8:45 am]

BILLING CODE 4910-59-P